DEPARTMENT OF STATE

[Public Notice: 4622]

2004 G8 Summit Planning Organization; Notice of Information Collection Under Emergency Review: DS-4056, Credential Application—Sea Island Homeowner; DS-4057, Credential Application—Official Guest; DS-4058, Credential Application—Media; DS-4059, Credential Application—Delegate; DS-4060, Credential Application—SPO Staff; DS-4061, Credential Application—Volunteer; DS-4062, Credential Application—Vendor; DS-4063, Credential Application—Hotel Employee; OMB No. 1405-XXXX

AGENCY: Department of State.

ACTION: Notice.

SUMMARY: The Department of State has submitted the following information collection request to the Office of Management and Budget (OMB) for review and approval in accordance with the emergency review procedures of the Paperwork Reduction Act of 1995.

Type of Request: Emergency Review.

Originating Office: A/TSS/SMT.

Title of Information Collection: Sea Island Summit Credential Applications.

Frequency: On occasion, once per individual.

Form Number: DS-4056, DS-4057, DS-4058, DS-4059, DS-4060, DS-4061, DS-4062, DS-4063.

Respondents: Persons requesting access to Sea Island Summit venues.

Estimated Number of Respondents: 18,000.

Average Hours Per Response: 5 minutes.

Total Estimated Burden: 1500 hours.

Emergency review and approval of this collection has been requested from OMB by February 6, 2004. If granted, the emergency approval is only valid for 180 days. Comments should be directed to the State Department Desk Officer, Office of Information and Regulatory Affairs, Office of Management and Budget (OMB), Washington, DC 20530, who may be reached at 202-395-7860.

FOR FURTHER INFORMATION CONTACT: Requests for additional information regarding the collection listed in this notice should be directed to Bolton Walters, G8 Summit Planning Organization, U.S. Department of State, Washington, DC 20520, who may be reached at 202-647-3419.

Dated: February 5, 2004.
Bob Goodwin,
Executive Director, 2004 G8 Summit Planning Organization, Department of State.

[FR Doc. 04-3125 Filed 2-11-04; 8:45 am]

BILLING CODE 4710-24-P